ENVIRONMENTAL PROTECTION AGENCY

[FRL-7989-4]

Notice of Launch of Children's Environmental Health Awards Program

AGENCY: Environmental Protection Agency (EPA).

ACTION: Notice.

SUMMARY: The Office of Children's Health Protection at the U.S. Environmental Protection Agency is pleased to be accepting applications for the 2006 Children's Environmental Health Excellence Awards. The awards are designed to increase awareness, stimulate activity, and recognize efforts that protect children from environmental health risks at the local, regional, national, and international level.

The Children's Environmental Health Excellence Award is divided into five categories. You may apply under only one category. These include Government, Non-Governmental Organizations, Corporate, Individual, and K-12 and Higher Education. EPA will be looking for projects that significantly impact children's environmental health issues through research; indicators; capacity building; regulatory and policy innovations; education and outreach; and interventions. Applications are due December 15, 2005, and an awards ceremony will be held for the winners in Washington, DC, in spring 2006. To download an application go to http://yosemite.epa.gov/ochp/ochpweb.nsf/content/news2.htm#cehawards.

FOR FURTHER INFORMATION CONTACT: Carolyn Hubbard, Office of Children's Health Protection for additional information or hard copies of the application, USEPA, MC 1107A, 1200 Pennsylvania Avenue, NW., Washington, DC 20460, (202) 564-2188, hubbard.carolyn@epa.gov

SUPPLEMENTARY INFORMATION: Children may be more susceptible to environmental hazards than adults. Their nervous, immune, digestive, and other systems are still developing and their ability to metabolize or inactivate toxicants may be different than adults. They eat more food, drink more fluids, and breathe more air in proportion to their weight than adults, and their behavior—such as crawling and placing objects in their mouths—may result in greater exposure to environmental contaminants.

Examples of environmental health hazards that may affect children include: (1) Air pollutants, both indoor and ambient; (2) toxic chemicals such as lead, mercury, arsenic, organochlorines such as polychlorinated biphenyls, and dioxins; (3) endocrine disruptors; (4) environmental tobacco smoke; (5) ultraviolet radiation; (6) water pollution; (7) pesticides; (8) brominated flame retardants; (9) radon; and (10) carbon monoxide. Many environmental health problems can be prevented, managed, and treated. EPA encourages communities, citizens, and organizations to become leaders in protecting our children from environmental health hazards.

Dated: October 24, 2005.
William H. Sanders, III,
Acting Director, Office of Children's Health Protection.

[FR Doc. 05-21461 Filed 10-26-05; 8:45 am]

BILLING CODE 6560-50-P